DEPARTMENT OF THE TREASURY

Internal Revenue Service

26 CFR Part 301

[REG-149036-04]

RIN 1545-BE07

Application of Section 6404(g) of the Internal Revenue Code Suspension Provisions; Correction

AGENCY: Internal Revenue Service (IRS), Treasury.

ACTION: Correction to notice of proposed rulemaking by cross-reference to temporary regulations.

SUMMARY: This document contains corrections to notice of proposed rulemaking by cross-reference to temporary regulations (REG-149036-04) that were published in the Federal Register on Thursday, June 21, 2007 (72 FR 34204) relating to the application of section 6404(g) of the Internal Revenue Code suspension provisions.

FOR FURTHER INFORMATION CONTACT: Stuart Spielman, (202) 622-7950 (not a toll-free number).

SUPPLEMENTARY INFORMATION:

Background

The notice of proposed rulemaking by cross-reference to temporary regulations that are the subject of this correction are under section 6404(g) of the Internal Revenue Code.

Need for Correction

As published, proposed regulations (REG-149036-04) contains an error that may prove to be misleading and is in need of clarification.

Correction of Publication

Accordingly, the publication of the proposed regulations (REG-149036-04), which was the subject of FR Doc. E7-12085, is corrected as follows:

On page 34204, column 1, in the preamble, under the caption SUMMARY:, lines 11 through 13, the language “the gulf Opportunity zone act of 2005, and the Tax Relief and Health Care Act of 2006. The regulations provide” is corrected to read “the Gulf Opportunity Zone Act of 2005, the Tax Relief and Health Care Act of 2006, and the Small Business and Work Opportunity Tax Act of 2007. The regulations provide”.

LaNita Van Dyke,
Chief, Publications and Regulations Branch, Legal Processing Division, Associate Chief Counsel (Procedure and Administration).

[FR Doc. E7-14400 Filed 7-25-07; 8:45 am]

BILLING CODE 4830-01-P